DEPARTMENT OF HOUSING AND URBAN DEVELOPMENT

[Docket No. FR-5907-N-24]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Mr. Robert E. Moriarty, P.E., AFCEC/CI, 2261 Hughes Avenue, Ste. 155, JBSA Lackland TX 78236-9853; ARMY: Ms. Veronica Rines, Office of the Assistant Chief of Staff for Installation Management, Department of Army, Room 5A128, 600 Army Pentagon, Washington, DC 20310, (571) 256-8145 (These are not toll-free numbers).

Dated: June 2, 2016.
Brian P. Fitzmaurice,
Director, Division of Community Assistance, Office of Special Needs Assistance Programs.

TITLE V, FEDERAL SURPLUS PROPERTY PROGRAM FEDERAL REGISTER REPORT FOR 06/10/2016

Suitable/Available Properties

Building

Alabama

4 Buildings

Bldg. 30815 AL 85 Peters St.

Doleville AL 36362

Landholding Agency: Army

Property Number: 21201620022

Status: Unutilized

Directions: 4011T:RPUID:186097 (720 sq.); 414:RPUID:186545 (288 sq.); 30815:RPUID:671439 (144 sq.); 4513: RPUID:186563 (400 sq.)

Comments: Oof-site removal only; no future agency need 24+-47+ yrs. old; sq. ft. above; storage; rec shelter; flam mat; 1+-6+ mos. vacant; poor & fair condition; contact Army for more information.

Colorado

Building R005F

Range 5 Specker Avenue

Fort Carson CO 80913

Landholding Agency: Army

Property Number: 21201620003

Status: Unutilized

Comments: off-site removal only; 13+ yrs. old; 800 sq. ft.; storage; 6+ mos. vacant; repairs required; contact Army for more information.

6 Buildings

Fort Carson

Fort Carson CO 80913

Landholding Agency: Army

Property Number: 21201620014

Status: Unutilized

Directions: 02554:RPUID:572361 (22,441 sq.); 02552:RPUID:591052 (22,441 sq.); 01950:RPUID:606520 (11,819 sq.); 01954:RPUID:583977 (22,386 sq.); 01951:RPUID:576840 (22,386 sq.); 02551:RPUID:576791 (22,441 sq.)

Comments: off-site removal only; 38+-42+yrs. old; sq. ft. above; barracks; 2+mos. vacant; repairs required; contact Army for more information.

Georgia

5 Buildings

Fort Benning

Fort Benning GA 31905

Landholding Agency: Army

Property Number: 21201620006

Status: Unutilized

Directions: Building 00485:RPUID:281444 (148 sq.); 08848:RPUID:282680 (288 sq.); 08830:RPUID:282664; (288 sq.) 08020:RPUID:282782; (192 sq.); 04022:RPUID:1006195 (144 sq.)

Comments: off-site removal only; 7+-74+ yrs. old; veh; toil/shower; storage; poor conditions; contact Army for more information.

Kentucky

2 Buildings

Fort Campbell

Fort Campbell KY 42223

Landholding Agency: Army

Property Number: 21201620004

Status: Underutilized

Directions: A0127: RPUID: 582404 (400 sq. ft.); B0127: RPUID: 320594 (783 sq. ft.)

Comments: 25+—27+ yrs. old; heating plant; refrig/AC building; fair condition; prior approval needed to gain access; contact Army for more information.

Missouri

Building 319A

Intersection of Headquarters and

Illonoise Ave.

Fort Leonard Wood MO 65473

Landholding Agency: Army

Property Number: 21201620023

Status: Unutilized

Directions: RPUID: 1239157

Comments: 4+ yrs. old; 384 sq. ft.; recreation; adequate condition; contact Army for more information.

Oklahoma

7 Buildings

Fort Sill

Fort Sill OK 73503

Landholding Agency: Army

Property Number: 21201620020

Status: Unutilized

Directions: 3336 (8,883 sq.); 1620 (800 sq.); 2598 (3,670 sq.); 2599 (3,670 sq.); 1608 (108 sq.); 3602 (8,883 sq.); 4744 (2,108 sq.)

Comments: off-site removal only; no future agency need; 21+-82+ yrs. old; sq. ft. above; warehouse; admin.; toilet/shower; instruction bldg.; 6+mos. vacant; contact Army for more information.

Virginia

Building 9046

Battle Drive in the Marine

Complex Area

Fort Lee VA 23801

Landholding Agency: Army

Property Number: 21201620024

Status: Unutilized

Comments: 39+ yrs. old; 120 sq. ft.; storage; 3+ mos. vacant; poor condition; contact Army for more information.

Unsuitable Properties

Building

Alabama

6 Buildings

Anniston Army Depot

Anniston AL 36207

Landholding Agency: Army

Property Number: 21201620009

Status: Unutilized

Directions: Building 00072:RPUID:235554; 0027A:RPUID:235396; 00663:RPUID:234486; 00198:RPUID:237626 00656:RPUID:237503; 00602:RPUID:237280

Comments: public access denied and no alternative method to gain access without compromising national security.

Reasons: Secured Area

5 Buildings

Military Ocean Terminal Concord

Concord AL 94520

Landholding Agency: Army

Property Number: 21201620018

Status: Unutilized

Directions: 00350:RPUID:95946; 00352:RPUID:959488; 00100:RPUID:959345; 00262:RPUID:1039404; 00283:RPUID:959484

Comments: public access denied and no alternative method to gain access without compromising national security.

Reasons: Secured Area

Building 30908

Bldg. 30908 AL 85 Specker St.

Daleville AL 36362

Landholding Agency: Army

Property Number: 21201620021

Status: Unutilized

Directions: RPUID: 598532

Comments: property located within an airport runway clear zone or military airfield.

Reasons: Within airport runway clear zone

California

Defense Distribution San Joaqu

#1; 26500 S. Chrisman Road

Tracy CA 95304

Landholding Agency: Army

Property Number: 21201620008

Status: Unutilized

Comments: public access denied and no alternative method to gain access without compromising national security.

Reasons: Secured Area

6 Buildings

Sierra Army Depot

Herlong CA 96113

Landholding Agency: Army

Property Number: 21201620010

Status: Unutilized

Directions: 00180:RPUID:197379; 00182:RPUID:197381; 00319:RPUID:197415; 00176:RPUID:197375; 0179:RPUID:197378; 00181:RPUID:197380

Comments: public access denied and no alternative method to gain access without compromising national security.

Reasons: Secured Area

8 Buildings

Sierra Army Depot

Herlong CA 96113

Landholding Agency: Army

Property Number: 21201620011

Status: Unutilized

Directions: 00019:RPUID:200744; 00018:RPUID:200743; 00016:RPUID:200741; 00015:RPUID:200740; 00025:RPUID:200750; 00024:RPUID:200749; 00022:RPUID:200747; 00021:RPUID:200746

Comments: public access denied and no alternative method to gain access without compromising national security.

Reasons: Secured Area

5 Buildings

Military Ocean Terminal Concord

Military Ocean Termin CA 94520

Landholding Agency: Army

Property Number: 21201620012

Status: Unutilized

Directions: Building 00E61: RPUID: 959953; 00A31: RPUID: 1039399; 00S51: RPUID: 960038; 00S45: RPUID: 960035;

Comments: public access denied and no alternative method to gain access without compromising national security.

Reasons: Secured Area

00IA2: RPUID: 1039398

Military Ocean Terminal Concord

Concord CA 94520

Landholding Agency: Army

Property Number: 21201620016

Status: Unutilized

Comments: public access denied and no alternative method to gain access without compromising national security.

Reasons: Secured Area

4 Buildings

5604 Exercise Street

Dublin CA 94568

Landholding Agency: Army

Property Number: 21201620026

Status: Unutilized

Directions: 985: RPUID: 376808; 986: RPUID: 376809; 987: RPUID: 376810; 984: RPUID: 376807

Comments: public access denied and no alternative method to gain access without compromising national security.

Reasons: Secured Area

Colorado

2 Buildings

Fort Carson

Fort Carson CO 80913

Landholding Agency: Army

Property Number: 21201620002

Status: Unutilized

Directions: Building 00300 & 00301

Comments: public access denied and no alternative method to gain access without compromising national security; property located within floodway, which has not been correct or contained.

Reasons: Secured Area

Georgia

Savannah HHIAP

Fac. 1907 &1914 XDQU

1401 Robert B. Miller Dr.

Garden City GA

Landholding Agency: Air Force

Property Number: 18201620010

Status: Underutilized

Comments: public access denied and no alternative without compromising national security

Reasons: Secured Area

2 Buildings

Fort Benning

Fort Benning GA 31905

Landholding Agency: Army

Property Number: 21201620007

Status: Excess

Directions: Building 02831: RPUID: 282470 & 02836: RPUID: 282475

Comments: public access denied and no alternative method to gain access without compromising national security.

Reasons: Secured Area

Illinois

3 Buildings

Rock Island Arsenal

Rock Island IL 61299

Landholding Agency: Army

Property Number: 21201620015

Status: Underutilized

Directions: 0030G: RPUID: 366331; 31: RPUID: 610280; 30: RPUID: 610255

Comments: property located within floodway, which has not been correct or contained.

Reasons: Floodway

Kentucky

10 Buildings

Porter River Road

Fort Knox KY 40121

Landholding Agency: Army

Property Number: 21201620028

Status: Unutilized

Directions: 9606:RPUID:310162; 9475:RPUID:286869; 9322:RPUID:182117; 9679:RPUID:309686; 9395:RPUID:293399; 9676:RPUID:286480; 9353:RPUID:310217; 9671:RPUID:1104885; 9342:RPUID:309470; 9660:RPUID:308904

Comments: public access denied and no alternative method to gain access without compromising national security.

Reasons: Secured Area

10 Buildings

Main Range Road

Fort Knox KY 40121

Landholding Agency: Army

Property Number: 21201620029

Status: Unutilized

Directions: 9282:RPUID:286483; 9240:RPUID:286705; 9284:RPUID:309690; 9241:RPUID:309683; 9290:RPUID:309737; 9242:RPUID:310425; 9234:RPUID:310217; 9258:RPUID:309480; 9265:RPUID:309473; 9235:RPUID:310418

Comments: public access denied and no alternative method to gain access without compromising national security.

Reasons: Secured Area

13 Buildings

Ft. Knox

Ft. Knox KY 40121

Landholding Agency: Army

Property Number: 21201620036

Status: Unutilized

Directions: 9697 (310446); 9701 (310071); 9702 (310072); 9704 (309327); 9751 (178549); 9682 (309486); 9684 (310449); 9685 (309485); 9686 (309483); 9687 (309484); 9694 (310043); 9695 (310444); 9696 (310445)

Comments: public access denied and no alternative method to gain access without compromising national security

Reasons: Secured Area

Maryland

6 Buildings

Aberdeen Proving Ground

APG MD 21010

Landholding Agency: Army

Property Number: 21201620031

Status: Unutilized

Directions: E5181 (235839); E4655 (235019); E6882 (234049); E5286 (236064); E5920 (237899); E3966 (237859)

Comments: public access denied and no alternative method to gain access without compromising national security

Reasons: Secured Area

10 Buildings

Aberdeen Proving Ground

APG MD 21010

Landholding Agency: Army

Property Number: 21201620032

Status: Unutilized

Directions: E3965 (237858); E2300 (236780); E3334 (225912); E3335 (225913); E3346 (225915); E3508 (236906); E3727 (237181); E3860 (237205); E3951 (237844); E3955 (237848)

Comments: public access denied and no alternative method to gain access without compromising national security

Reasons: Secured Area

10 Buildings

Aberdeen Proving Ground

APG MD 21010

Landholding Agency: Army

Property Number: 21201620033

Status: Unutilized

Directions: E1421 (230356); E1425 (230360); 5608E (233610); E1467 (231217); 1128 (230958); 1149A (233364); 1169 (231805); 4303 (230771); 4725 (231020); E1406 (230345)

Comments: public access denied and no alternative method to gain access without compromising national security

Reasons: Secured Area

10 Buildings

Aberdeen Proving Ground

APG MD 21005

Landholding Agency: Army

Property Number: 21201620034

Status: Unutilized

Directions: 1076B(1197700); 1101A (2333334); 714D (231385); 718 (233262); 783 (229636); 852A (232469); 798 (229642); 806 (229846); 807 (229847); 808 (229848)

Comments: public access denied and no alternative method to gain access without compromising national security

Reasons: Secured Area

10 Buildings

Aberdeen Proving Ground

APG MD 21005

Landholding Agency: Army

Property Number: 21201620035

Status: Unutilized

Directions: 303 (233151); 312 (957898); 335A (233192); 347A (229683); 457 (231108); 526 (232983); 527 (232984); 700h (251369); 00036 (232287); 279 (233148)

Comments: public access denied and no alternative method to gain access without compromising national security

Reasons: Secured Area

E5950 (RPUID:237908)

Callahan St.

Aberdeen Proving Ground

APG MD 21010

Landholding Agency: Army

Property Number: 21201620038

Status: Unutilized

Comments: public access denied and no alternative method to gain access without compromising national security

Reasons: Secured Area

Massachusetts

2 Buildings

Soldier Systems Center Natick

Natick MA 01760

Landholding Agency: Army

Property Number: 21201620013

Status: Underutilized

Directions: T0024:RPUID:206927 & T0025:RPUID:206928

Comments: Public access denied and no alternative method to gain access without compromising national security.

Reasons: Secured Area

New York

Building 697

697 Washington Road

West Point NY 10996

Landholding Agency: Army

Property Number: 21201620030

Status: Unutilized

Comments: Documented deficiencies: extensive structural damage; wall coming apart; bricks are dislodged which may cause the building to collapse; located on a landfill.

Reasons: Extensive deterioration

North Carolina

12 Buildings

Fort Bragg

Fort Bragg NC 28310

Landholding Agency: Army

Property Number: 21201620001

Status: Underutilized

Directions: D2609:RPUID:577998; D2815:RPUID:614614; D3225:RPUID:594582; D3637:RPUID:586751; E1739:RPUID:605961; N5204:RPUID:304497; D2509:RPUID:597728; D2212:RPUID:604181; D2211:RPUID:297376; D2113: RPUID:584535; D2111:RPUID:611859; D1911:RPUID:604178

Comments: Public access denied and no alternative method to gain access without compromising national security.

Reasons: Secured Area

2 Buildings

Fort Bragg

Fort Bragg NC 28310

Landholding Agency: Army

Property Number: 21201620005

Status: Unutilized

Directions: Building D2105 & 280

Comments: Public access denied and no alternative method to gain access without compromising national security.

Reasons: Secured Area

South Carolina

Building 5715

5715 Imboden Street

Fort Jackson SC 29207

Landholding Agency: Army

Property Number: 21201620025

Status: Unutilized

Directions: RPUID:308163

Comments: Public access denied and no alternative method to gain access without compromising national security.

Reasons: Secured Area

8 Buildings

2545 ESSAYONS WAY

Fort Jackson SC 29207

Landholding Agency: Army

Property Number: 21201620027

Status: Unutilized

Directions: 2557:RPUID:308587; 2545:RPUID:310534; 2539:RPUID:310640; 12625:RPUID:604053; 2584:RPUID:180421; 2561:RPUID:310641; 4475:RPUID:307769; 2548:RPUID:308585;

Comments: Public access denied and no alternative method to gain access without compromising national security.

Reasons: Secured Area

5713(RPUID: 308428)

Imoden St.

Ft. Jackson SC 29207

Landholding Agency: Army

Property Number: 21201620037

Status: Unutilized

Comments: public access denied and no alternative method to gain access without compromising national security

Reasons: Secured Area

Unsuitable Properties

Land

Alabama

5 Buildings

Ft. McClellan

Alexandria AL 36250

Landholding Agency: Army

Property Number: 21201620017

Status: Unutilized

Directions: R8434:RPUID:299453; R8437:RPUID:303405; C1395:RPUID:175953; C1312:RPUID:299704; C1320:RPUID:176206

Comments: Public access denied and no alternative method to gain access without compromising national security.

Reasons: Secured Area

[FR Doc. 2016-13428 Filed 6-9-16; 8:45 am]

BILLING CODE 4210-67-P